DEPARTMENT OF VETERANS AFFAIRS

[OMB Control No. 2900-NEW]

Agency Information Collection Activity Under OMB Review: Veterans Child Care Assistance Program (VCAP)

AGENCY: Veterans Health Administration, Department of Veterans Affairs.

ACTION: Notice.

SUMMARY: In compliance with the Paperwork Reduction Act (PRA) of 1995, this notice announces that the Veterans Health Administration (VHA), Department of Veterans Affairs (VA), will submit the collection of information abstracted below to the Office of Management and Budget (OMB) for review and comment. The PRA submission describes the nature of the information collection and its expected cost and burden, and it includes the actual data collection instrument.

DATES: Comments and recommendations for the proposed information collection should be sent by November 15, 2024.

ADDRESSES: To submit comments and recommendations for the proposed information collection, please type the following link into your browser: www.reginfo.gov/public/do/PRAMain, select “Currently under Review—Open for Public Comments,” then search the list for the information collection by Title or “OMB Control No. 2900-NEW.”

FOR FURTHER INFORMATION CONTACT: VA PRA information: Maribel Aponte, 202-461-8900, vacopaperworkreduact@va.gov.

SUPPLEMENTARY INFORMATION:

Title: Veterans Child Care Assistance Program (VCAP) (VA Forms 10-380, 10-381, 10-382).

OMB Control Number: 2900-NEW. https://www.reginfo.gov/public/do/PRASearch.

Type of Review: New collection.

Abstract: The Veterans Child Care Assistance Program (VCAP) was established via Public Law 116-315, section 5107a, of the Johnny Isakson and David P. Roe, M.D. Veterans Health Care and Benefits Improvement Act of 2020. Section 5107a provided permanent authority in 38 United States Code section 1709C for VA to provide child care assistance to certain veterans receiving health care at VA medical facilities. This child care assistance is provided solely for the time period of the veteran's health care appointment.

VA intends to collect appropriate information from veterans in order to establish eligibility and intent to utilize VCAP. VA facilities with onsite drop-in child care centers will be able to access the current VA systems to verify veteran name and SSN for eligibility, but must maintain their contact information and the child's information for use in the child care setting for emergency and safety reasons. This information also will be used for auditing and validation purposes in the reimbursement system for those veterans submitting claims for financial reimbursement of child care expenses. Such verification is necessary to pay allowable claims, as well as monitor and prevent fraudulent claims.

VA Form 10-380—VCAP Child Registration Intake Form: The eligible veteran will complete this form to register the child or children who will be cared for on VA premises for the duration of the veteran's health care appointment.

VA Form 10-381—VCAP Appointment Certification Form: The veteran individual will complete this form to attest they are attending a certified appointment and have a qualifying veteran-child relationship for the purpose of establishing eligibility for child care assistance.

VA Form10-382—VCAP Reimbursement Claim Form: This form will be used by the veteran individual to request reimbursement for the cost of child care at licensed non-VA child care facilities. Reimbursement for child care services is limited to the time required for the veteran's health care appointment and travel to/from the eligible child care provider.

An agency may not conduct or sponsor, and a person is not required to respond to a collection of information unless it displays a currently valid OMB control number. The Federal Register Notice with a 60-day comment period soliciting comments on this collection of information was published at 89 FR 64044, August 6, 2024.

Total Annual Burden: 215,639 hours.

Total Annual Responses: 4,174,528.

VA Form 10-380

Affected Public: Individuals or Households.

Estimated Annual Burden: 70,400 hours.

Estimated Average Burden per Respondent: 15 minutes.

Frequency of Response: Once annually.

Estimated Number of Respondents: 281,600.

VA Form 10-381

Affected Public: Individuals or Households.

Estimated Annual Burden: 125,895 hours.

Estimated Average Burden per Respondent: 2 minutes.

Frequency of Response: 13 times annually.

Estimated Number of Respondents: 290,528.

VA Form 10-382

Affected Public: Individuals or Households.

Estimated Annual Burden: 19,344 hours.

Estimated Average Burden per Respondent: 10 minutes.

Frequency of Response: 13 times annually.

Estimated Number of Respondents: 8,928.

Authority: 44 U.S.C. 3501 et seq.

Dorothy Glasgow,
VA PRA Clearance Officer (Alt.), Office of Enterprise and Integration, Data Governance Analytics, Department of Veterans Affairs.

[FR Doc. 2024-23824 Filed 10-15-24; 8:45 am]

BILLING CODE 8320-01-P